DEPARTMENT OF COMMERCE

Foreign-Trade Zones Board

[B-52-2018]

Foreign-Trade Zone 78—Nashville, Tennessee; Application for Subzone; Calsonic Kansei North America; Shelbyville and Lewisburg, Tennessee

An application has been submitted to the Foreign-Trade Zones (FTZ) Board by the Metropolitan Government of Nashville and Davidson County, grantee of FTZ 78, requesting subzone status for the facilities of Calsonic Kansei North America, located in Shelbyville and Lewisburg, Tennessee. The application was submitted pursuant to the provisions of the Foreign-Trade Zones Act, as amended (19 U.S.C. 81a-81u), and the regulations of the FTZ Board (15 CFR part 400). It was formally docketed on August 15, 2018.

The proposed subzone would consist of the following sites: Site 1 (34 acres) One Calsonic Way, Shelbyville; Site 2 (66.9 acres) Stanley Boulevard, Shelbyville; Site 3 (32.6 acres) 201 Garrett Parkway, Lewisburg; Site 4 (35 acres) 1701 Childress Road, Lewisburg; and, Site 5 (15.82 acres) 633 Garrett Parkway, Lewisburg. No authorization for production activity has been requested at this time.

In accordance with the FTZ Board's regulations, Kathleen Boyce of the FTZ Staff is designated examiner to review the application and make recommendations to the FTZ Board.

Public comment is invited from interested parties. Submissions shall be addressed to the FTZ Board's Executive Secretary at the address below. The closing period for their receipt is October 3, 2018. Rebuttal comments in response to material submitted during the foregoing period may be submitted during the subsequent 15-day period to October 18, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Kathleen Boyce at Kathleen.Boyce@trade.gov or (202) 482-1346.

Dated: August 20, 2018.
Andrew McGilvray,
Executive Secretary.

[FR Doc. 2018-18334 Filed 8-23-18; 8:45 am]

BILLING CODE 3510-DS-P